DEPARTMENT OF TRANSPORTATION

Federal Highway Administration

Notice of Final Federal Agency Actions on Transportation Project in Washington State

AGENCY: Federal Highway Administration (FHWA), Department of Transportation (DOT).

ACTION: Notice of limitation on claims for judicial review of actions by FHWA and other federal agencies.

SUMMARY: This notice announces actions taken by the FHWA that are final. The action relates to the Federal Way Link Extension Project, King County, WA. Project sponsor: Central Puget Sound Regional Transit Authority (Sound Transit). Project description: The project alternative, selected by the Federal Transit Administration (FTA), the Federal Lead Agency, in its March 6, 2017, Record of Decision, would extend the Sound Transit Link light rail system by 7.8 miles from Angle Lake Station in SeaTac south through Des Moines and Kent, terminating in Federal Way. The route would travel along the west side of Interstate 5 and would include stations at Kent/Des Moines near Highline College, South 272nd Street, and the Federal Way Transit Center. The action by FHWA, a Cooperating Agency on this project, is the March 9, 2017, approval of a NEPA Record of Decision for the FHWA approvals required for this project. The FTA, the Federal Lead Agency, issued a Notice of Limitation on Claims for their actions on this project on March 22, 2017.

DATES: By this notice, FHWA is advising the public of final Agency actions subject to 23 U.S.C. 139(l)(1). This notice applies to all FHWA decisions on the Federal Way Link Extension Project as of the issuance date of this notice and all laws under which such actions were taken. A claim seeking judicial review of the Federal agency actions on the listed highway project will be barred unless the claim is filed on or before September 11, 2017. If the Federal law that authorizes judicial review of a claim provides a time period of less than 150 days for filing such claim, then that shorter time period still applies.

FOR FURTHER INFORMATION CONTACT: For FHWA, contact Lindsey Handel, Urban Area Engineer, Washington Division, Federal Highway Administration, 711 S. Capitol Way, Suite 501, Olympia, WA 98501-1284, 360-753-9550, or Lindsey.Handel@dot.gov. Regular office hours are from 8:00 a.m. to 4:30 p.m., Monday through Friday, except Federal holidays. Further information and documentation can be found at: http://www.soundtransit.org/Projects-and-Plans/Federal-Way-Link-Extension.

SUPPLEMENTARY INFORMATION: Notice is hereby given that the FHWA has taken final agency actions within the meaning of 23 U.S.C. 139(l)(1) by issuing a NEPA Record of Decision for the Federal Way Link Extension Project. The action(s) by the FHWA, associated final actions by other Federal agencies, and the laws under which such actions were taken, are described in the FHWA's decisions and its project records. That information is available by contacting the FHWA at the address provided above.

The Final Environmental Impact Statement (EIS) for the project was published by the FTA on November 18, 2016. FHWA, as a Cooperating Agency, issued a Record of Decision (ROD) on March 9, 2017.

Authority: 23 U.S.C. 139(l)(1), as amended by Moving Ahead for Progress in the 21st Century Act, (Pub. L. 112-141, 126 Stat. 405).

Issued on: April 3, 2017.
Melinda M. Roberson,
FHWA Assistant Division Administrator, Olympia, WA.

[FR Doc. 2017-07271 Filed 4-13-17; 8:45 am]

BILLING CODE 4910-FY-P